DEPARTMENT OF ENERGY

Federal Energy Regulatory Commission

[Docket No. RP01-43-001]

Eastern Shore Natural Gas Company; Notice of Proposed Changes in FERC Gas Tariff

December 7, 2000.

Take notice that on November 28, 2000, Eastern Shore Natural Gas Company (Eastern Shore) tendered for filing as part of its FERC Gas Tariff, Second Revised Volume No. 1, Substitute First Revised Sheet No. 169, proposed to be effective on November 1, 2000.

Eastern Shore states that the purpose of this filing is to make further necessary modifications to its tariff to (1) permit imbalance netting and (2) expand its imbalance trading period, as directed by the Commission's letter order dated November 9, 2000 in the above-referenced proceeding in order to fully comply with the requirements of FERC Order No. 587-L.

Eastern Shore states that a copy of this filing has been mailed to its customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31838 Filed 12-13-00; 8:45 am]

BILLING CODE 6717-01-M